DEPARTMENT OF LABOR

Employment and Training Administration

[Docket No. TA-W-39,539]

Mission Valley Fabrics Plains Cotton Cooperative Association New Braunfel, TX; Amended Certification Regarding Eligibility To Apply for Worker Adjustment Assistance

In accordance with Section 223 of the Trade Act of 1974 (19 U.S.C. 2273) the Department of Labor issued a Certification of Eligibility to Apply for Worker Adjustment Assistance on January 15, 2002, applicable to workers of Mission Valley Fabrics, New Braunfels, Texas. The notice was published in the Federal Register on January 31, 2002 (67 FR 4750).

At the request of the State agency, the Department reviewed the certification for workers of the subject firm. The workers are engaged in the production of yarn died woven fabrics. New information shows that Plains Cotton Cooperative Association is the parent firm of Mission Valley Fabrics, New Braunfels, Texas.

Information also shows that some workers separated from employment at the subject firm had their wages reported under a separate unemployment insurance (UI) tax account for Plains Cotton Cooperative Association.

Accordingly, the Department is amending the certification to properly reflect this matter.

The intent of the Department's certification is to include all workers of Mission Valley Fabrics, New Braunfels, Texas who were adversely affected by increased imports.

The amended notice applicable to TA-W-39,539 is hereby issued as follows:

All workers of Mission Valley Fabrics, Plains Cotton Cooperative Association, New Braunfels, Texas who became totally or partially separated from employment on or after June 14, 2000, through January 15, 2004, are eligible to apply for adjustment assistance under Section 223 of the Trade Act of 1974.

Signed at Washington, DC this 4th day of February, 2002.
Linda G. Poole,
Certifying Officer, Division of Trade Adjustment Assistance.

[FR Doc. 02-5587 Filed 3-7-02; 8:45 am]

BILLING CODE 4510-30-M